COMMODITY FUTURES TRADING COMMISSION

Privacy Act of 1974; System of Records

AGENCY: Commodity Futures Trading Commission.

ACTION: Notice of a New System of Records.

SUMMARY: The Commodity Futures Trading Commission (“CFTC” or “Commission”) is establishing CFTC-54, Ensuring Workplace Health and Safety in Response to a Public Health Emergency, a system of records under the Privacy Act of 1974. This system of records maintains information collected in response to a public health emergency, such as a pandemic or epidemic, from CFTC staff (including political appointees, employees, detailees, contractors, consultants, interns, and volunteers) and visitors to CFTC facilities that is necessary to ensure a safe and healthy work environment.

DATES: In accordance with 5 U.S.C. 552(e)(4) and (11), this System of Records will go in to effect without further notice on September 29, 2020 unless otherwise revised pursuant to comments received. New routine uses will go in to effect on October 29, 2020. Comments must be received on or before October 29, 2020.

ADDRESSES: You may submit comments identified as pertaining to “Ensuring Workplace Health and Safety in Response to a Public Health Emergency” by any of the following methods:

• CFTC Website: https://comments.cftc.gov. Follow the instructions for submitting comments through the Comments Online process on the website.

• Mail: Christopher Kirkpatrick, Secretary of the Commission, Commodity Futures Trading Commission, Three Lafayette Centre, 1155 21st Street NW, Washington, DC 20581.

• Hand Delivery/Courier: Same as Mail, above.

Please submit your comments using only one method.

All comments must be submitted in English, or if not, accompanied by an English translation. Comments will be posted as received to https://www.cftc.gov. You should submit only information that you wish to make available publicly.

The Commission reserves the right, but shall have no obligation, to review, pre-screen, filter, redact, refuse, or remove any or all of a submission from https://www.cftc.gov that it may deem to be inappropriate for publication, such as obscene language. All submissions that have been redacted or removed that contain comments on the merits of the notice will be retained in the comment file and will be considered as required under all applicable laws, and may be accessible under the FOIA.

FOR FURTHER INFORMATION CONTACT: Charlie Cutshall, Chief Privacy Officer, privacy@cftc.gov, 202-418-5833, Office of the Executive Director, Commodity Futures Trading Commission, Three Lafayette Centre, 1155 21st Street NW, Washington, DC 20581.

SUPPLEMENTARY INFORMATION:

I. CFTC-54, Ensuring Workplace Health and Safety in Response to a Public Health Emergency

The Commodity Futures Trading Commission is establishing CFTC-54, Ensuring Workplace Health and Safety in Response to a Public Health Emergency, a system of records under the Privacy Act of 1974. The CFTC is committed to providing all CFTC staff with a safe and healthy work environment and to that end it may develop and institute additional safety measures in response to a public health emergency. These measures may include instituting activities such as requiring CFTC staff and visitors to provide information before being allowed access to a CFTC facility, medical screening, and contact tracing. Contact tracing conducted by CFTC staff will involve collecting information about CFTC staff and visitors who are exhibiting symptoms or who have tested positive for an infectious disease in order to identify and notify other CFTC staff and visitors with whom they may have come into contact and who may have been exposed.

Information will be collected and maintained in accordance with the Americans with Disabilities Act of 1990 and regulations and guidance published by the U.S. Occupational Safety and Health Administration, the U.S. Equal Employment Opportunity Commission, and the U.S. Centers for Disease Control and Prevention.

II. The Privacy Act

Under the Privacy Act of 1974, 5 U.S.C. 552a, a “system of records” is defined as any group of records under the control of a Federal government agency from which information about individuals is retrieved by name or by some identifying number, symbol, or other identifying particular assigned to the individual. The Privacy Act establishes the means by which government agencies must collect, maintain, and use information about an individual in a government system of records.

Each government agency is required to publish a notice in the Federal Register in which the agency identifies and describes each system of records it maintains, the reasons why the agency uses the information therein, the routine uses for which the agency will disclose such information outside the agency, and how individuals may exercise their rights under the Privacy Act.

In accordance with 5 U.S.C. 552a(r), CFTC has provided a report of this modified system of records to the Office of Management and Budget and to Congress.

SYSTEM NAME AND NUMBER:

Ensuring Workplace Health and Safety in Response to a Public Health Emergency; CFTC-54.

SECURITY CLASSIFICATION:

Unclassified.

SYSTEM LOCATION:

This system is maintained by the Security and Emergency Management Unit (SEMU) in the Commission's principal office at Three Lafayette Centre, 1155 21st Street NW, Washington, DC 20581. Records may also be located at the regional offices in Chicago at 525 West Monroe Street, Suite 1100, Chicago, IL 60661; in Kansas City at Two Emanuel Cleaver II Blvd., Suite 300, Kansas City, MO 64112; and, New York at 140 Broadway, 19th Floor, New York, NY 10005.

SYSTEM MANAGER(S):

The system manager is the SEMU Officer located in the Commission's principal office at Three Lafayette Centre, 1155 21st Street NW, Washington, DC 20581, and available at security@cftc.gov. Additional records may be located and managed by Logistics and Operations staff in the regional offices in Chicago at 525 West Monroe Street, Suite 1100, Chicago, IL 60661; in Kansas City at Two Emanuel Cleaver II Blvd., Suite 300, Kansas City, MO 64112; and, in New York at 140 Broadway, 19th Floor, New York, NY 10005.

AUTHORITY FOR MAINTENANCE OF THE SYSTEM:

The authority to collect this information derives from General Duty Clause, Section 5(a)(1) of the Occupational Safety and Health (OSH) Act of 1970 (29 U.S.C. 654), Executive Order 12196, Occupational safety and health programs for Federal employees (Feb. 26, 1980), OMB Memorandum M-20-23 Aligning Federal Agency Operations with the National Guidelines for Opening Up America Again (Apr. 20, 2020), and the National Defense Authorization Act For Fiscal Year 2017 (5 U.S.C. 6329c(b)). Information will be collected and maintained in accordance with the Americans with Disabilities Act of 1990 (42 U.S.C. 12101 et seq.)

PURPOSE(S) OF THE SYSTEM:

The information in the system is collected to assist the CFTC with maintaining a safe and healthy workplace and to protect CFTC staff working on-site from risks associated with a public health emergency (as defined by the U.S. Department of Health and Human Services and declared by its Secretary), such as a pandemic or epidemic. To that end, the CFTC may develop and institute additional safety measures in response to a public health emergency. These measures may include instituting activities such as requiring CFTC staff and visitors to provide information before being allowed access to a CFTC facility, medical screening, and contact tracing. Contact tracing conducted by CFTC staff will involve collecting information about CFTC staff and visitors who are exhibiting symptoms or who have tested positive for an infectious disease in order to identify and notify other CFTC staff and visitors with whom they may have come into contact and who may have been exposed.

CATEGORIES OF INDIVIDUALS COVERED BY THE SYSTEM:

Individuals covered by this system include CFTC staff (e.g., political appointees, employees, detailees, contractors, consultants, interns, and volunteers) and visitors to a CFTC facility during a public health emergency, such as a pandemic or epidemic.

CATEGORIES OF RECORDS IN THE SYSTEM:

This system maintains information collected about CFTC staff and visitors accessing CFTC facilities during a public health emergency, including a pandemic or epidemic. It maintains biographical information collected about CFTC staff and visitors that includes, but is not limited to, their name, contact information, whether they are in a high-risk category or provide dependent care for individuals in a high-risk category, and recent travel. It maintains health information collected about CFTC staff and visitors to a CFTC facility, that includes, but is not limited to, temperature checks, expected or confirmed test results, dates, symptoms, potential or actual exposure to a pathogen, immunizations and vaccination information, or other medical history related to the treatment of a pathogen or communicable disease. It maintains information collected about CFTC staff and visitors to a CFTC facility necessary to conduct contact tracing that includes, but is not limited to, the dates when they visited the facility, the locations that they visited within the facility (e.g., office and cubicle number), the duration of time spent in the facility, whether they may have potentially come into contact with a contagious person while visiting the facility, travel dates and locations, and a preferred contact number. It maintains information about emergency contacts for CFTC staff that includes, but is not limited to, the emergency contact's name, phone number, and email address.

RECORD SOURCE CATEGORIES:

The information in this system is collected in part directly from the individual or from the individual's emergency contact. Information is also collected from security systems monitoring access to CFTC facilities, such as video surveillance and turnstiles, human resources systems, emergency notification systems, and federal, state, and local agencies assisting with the response to a public health emergency. Information may also be collected from property management companies responsible for managing office buildings that house CFTC facilities.

ROUTINE USES OF RECORDS MAINTAINED IN THE SYSTEM, INCLUDING CATEGORIES OF USERS AND THE PURPOSES OF SUCH USES:

These records and information in these records may be disclosed:

(a) To a Federal, State, or local agency to the extent necessary to comply with laws governing reporting of infectious disease;

(b) To the CFTC staff member's emergency contact for purposes of locating a staff member during a public health emergency or to communicate that the CFTC staff member may have potentially been exposed to a virus as the result of a pandemic or epidemic while visiting a CFTC facility;

(c) To another Federal agency, to a court, or a party in litigation before a court or in an administrative proceeding being conducted by a Federal agency when the Commission is a party to the judicial or administrative proceeding where the information is relevant and necessary to the proceeding;

(d) To contractors, performing or working on a contract for the Commission when necessary to accomplish an agency function;

(e) To the Department of Justice or in a proceeding before a court, adjudicative body, or other administrative body which the Commission is authorized to appear, when:

(1) The Commission; or

(2) Any employee of the Commission in his or her official capacity; or

(3) Any employee of the Commission in his or her official capacity where the Department of Justice or the Commission has agreed to represent the employee; or

(4) The United States, when the Commission determines that litigation is likely to affect the agency or any of its components;

Is a party to litigation or has an interest in such litigation, and the use of such records by the Department of Justice or the Commission is deemed by the agency to be relevant and necessary to the litigation.

(f) To appropriate agencies, entities, and persons when (1) the Commission suspects or has confirmed that there has been a breach of the system of records, (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or

(g) To another Federal agency or Federal entity, when the Commission determines that information from this system of records is reasonably necessary to assist the recipient agency or entity in (1) responding to a suspected or confirmed breach or (2) preventing, minimizing, or remedying the risk of harm to Individuals, the recipient agency or entity (including its information systems, programs, and operations), the Federal Government, or national security, resulting from a suspected or confirmed breach.

POLICIES AND PRACTICES FOR STORAGE OF RECORDS:

Records in this system of records are stored electronically or on paper in secure facilities. Electronic records are stored on the Commission's secure network.

POLICIES AND PRACTICES FOR RETRIEVAL OF RECORDS:

Information covered by this system of records notice may be retrieved by the name of the individual.

POLICIES AND PRACTICES FOR RETENTION AND DISPOSAL OF RECORDS:

Records of emergency contacts for CFTC staff will be maintained in accordance with General Records Schedule 5.3, Item 020: Employee Emergency Contact Information, which requires that the records be destroyed when superseded or obsolete, or upon separation or transfer of employee. CFTC will work with the National Archives and Records Administration (NARA) to draft and secure approval of a records disposition schedule to cover the remainder of the records described in this SORN. Until this records disposition schedule is approved by NARA, CFTC will maintain, and not destroy, these records.

ADMINISTRATIVE, TECHNICAL, AND PHYSICAL SAFEGUARDS:

Records are protected from unauthorized access and improper use through administrative, technical, and physical security measures. Administrative safeguards include applying a coversheet to sensitive information. Technical security safeguards within CFTC include restrictions on computer access to authorized individuals who have a legitimate need to know the information; required use of strong passwords that are frequently changed; multi-factor authentication for remote access and access to many CFTC network components; use of encryption for certain data types and transfers; firewalls and intrusion detection applications; and regular review of security procedures and best practices to enhance security. Physical safeguards include restrictions on building access to authorized individuals, 24-hour security guard service, and maintenance of records in lockable offices and filing cabinets.

RECORD ACCESS PROCEDURES:

Individuals seeking to determine whether this system of records contains information about themselves or seeking access to records about themselves in this system of records should address written inquiries to the Office of General Counsel, Commodity Futures Trading Commission, Three Lafayette Centre, 1155 21st Street NW, Washington, DC 20581. See 17 CFR 146.3 for full details on what to include in a Privacy Act access request.

CONTESTING RECORD PROCEDURES:

Individuals contesting the content of records about themselves contained in this system of records should address written inquiries to the Office of General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

None.

Issued in Washington, DC, on September 23, 2020, by the Commission.
Robert Sidman,
Deputy Secretary of the Commission.

[FR Doc. 2020-21423 Filed 9-28-20; 8:45 am]

BILLING CODE 6351-01-P